DEPARTMENT OF COMMERCE

International Trade Administration

[Application No. 84-24A12]

Export Trade Certificate of Review

ACTION: Notice of Issuance of an Export Trade Certificate of Review to Northwest Fruit Exporters, Application No. 84-24A12.

SUMMARY: The U.S. Department of Commerce issued an amended Export Trade Certificate of Review to Northwest Fruit Exporters on August 13, 2013. The Certificate has been amended twenty-four times.

FOR FURTHER INFORMATION CONTACT: Joseph E. Flynn, Director, Office of Competition and Economic Analysis, International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR Part 325 (2013). The U.S. Department of Commerce, International Trade Administration, Office of Competition and Economic Analysis (“OCEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

NWF's Export Trade Certificate of Review has been amended to:

1. Add the following companies as a new Members of the Certificate within the meaning of section 325.2(l) of the Regulations (15 CFR 325.2(l)): Phillippi Fruit Company, Inc. (Wenatchee, WA); Quincy Fresh Fruit Co. (Quincy, WA); Western Sweet Cherry Group, LLC (Yakima, WA); and Whitby Farms, Inc. dba: Farm Boy Fruit Snacks LLC (Mesa, WA); and

2. Remove the following companies as a Member of NWF's Certificate: Andrus & Roberts Produce Co. (Sunnyside, WA); Crown Packing, LLC (Wenatchee, WA), Garrett Ranches Packing (Wilder, ID); IM EX Trading Company (Yakima, WA); and Orondo Fruit Co., Inc. (Ornondo, WA); and

3. Change the name of the following member: Broetje Orchards of Prescott, WA is now Broetje Orchards LLC; and Nuchief Sales Inc. of Wenatchee, WA is now Honey Bear Tree Fruit Co., LLC.

The effective date of the amended certificate is May 14, 2013, the date on which NWF's application to amend was deemed submitted. A copy of the amended certificate will be kept in the International Trade Administration's Freedom of Information Records Inspection Facility, Room 4001, U.S. Department of Commerce, 14th Street and Constitution Avenue NW., Washington, DC 20230.

Dated: August 21, 2013.
Joseph E. Flynn,
Office Director, Office of Competition and Economic Analysis.

[FR Doc. 2013-21173 Filed 8-29-13; 8:45 am]

BILLING CODE 3510-DR-P